ENVIRONMENTAL PROTECTION AGENCY

[ER-FRL-8584-4]

Environmental Impacts Statements; Notice of Availability

Responsible Agency: Office of Federal Activities, General Information (202) 564-7167 or http://www.epa.gov/compliance/nepa/.

Weekly receipt of Environmental Impact Statements

Filed 07/28/2008 through 08/01/2008

Pursuant to 40 CFR 1506.9.

EIS No. 20080295, Final EIS, FHW, NY, NYS Route 17 at Exit 122 Interchange Project, To Improve the Safety and Operation, Right-of-Way Acquisition, Town of Wallkill, Orange County, NY, Wait Period Ends: 09/08/2008, Contact: Jeffery W. Kolb 518-431-4127.

EIS No. 20080296, Final EIS, FHW, TX, Grand Parkway (State Highway 99) Selected the Preferred Alternative Alignment, Segment F-2 from SH 249 to IH 45, Right-of-Way Permit and U.S. Army COE Section 404 Permit, Harris County, TX, Wait Period Ends: 09/17/2008, Contact:Justin Ham 512-536-5963.

EIS No. 20080297, Draft EIS, IBR, CA, Lake Casitas Resource Management Plan (RMP), Implementation, Cities of Los Angeles and Ventura, Western Ventura County, CA, Comment Period Ends: 09/22/2008, Contact: Sharon McHale 916-989-7172.

EIS No. 20080298, Final EIS, BLM, ID, Cottonwood Resource Management Plan, Implementation, Latah, Clearwater, Nez Perce, Lewis, Idaho and Adams Counties, ID, Wait Period Ends: 09/08/2008, Contact: Dean Huibregtse 208-962-3784.

EIS No. 20080299, Final EIS, IBR, CA,American Basin Fish Screen and Habitat Improvement Project, Construction and Operation of one or two Positive-Barrier Fish Screen Diversion Facilities, Funding and U.S. Army COE Section 10 and 404 Permits, Natomas Mutual, Sacramento and Sutter Counties, CA, Wait Period Ends: 09/08/2008, Contact: Bradley Hubbard 916-978-5204.

EIS No. 20080300, Final EIS, BLM, AZ, Agua Fria National Monument and Bradshaw-Harquahala, Proposed Resource Management Plan, Implementation, Yavapai County, AZ, Wait Period Ends: 09/08/2008, Contact: Connie Stone 623-580-5500.

EIS No. 20080301, Final EIS, BLM, UT, Richfield Field Office Resource Management Plan, Implementation, Future Management of the Public Lands and Resource, Glen Canyon National Recreation Area, Capitol Reef and Canyonlands National Parks, Sanpete, Sevier, Piute, Wayne and Garfield Counties, UT , Wait Period Ends: 09/08/2008, Contact: John Russell 435-896-1500.

EIS No. 20080302, Third Draft Supplement, UAF, FL, Eglin Air Force Base (AFB) and Hurlburt Field, Proposes To Implement the Military Housing Privatization Initiative (MHPI), FL, Comment Period Ends: 09/22/2008, Contact: Shari Kilbourne 973-656-2926.

EIS No. 20080303, Draft Supplement, USN, 00, Developing Home Port Facilities for Three NIMITZ-Class Aircraft Carriers in Support of the U.S. Pacific Fleet, New Circumstances and Information to Supplements (the 1999 FEIS) Coronado, CA, Comment Period Ends: 09/22/2008, Contact: Robert Montana 619-556-8509.

EIS No. 20080304, Draft EIS, NOA, 00, Reef Fish Amendment 30B: Gag-End Overfishing and Set Management Thresholds and Targets; Red Grouper—Set Optimum Yield, Total Allowable Catch (TAC), and Management Measures: Area Closures: and Federal Regulatory Compliance, Implementation, Gulf of Mexico, Comment Period Ends: 09/22/2008, Contact: Roy E. Crabtree 727-824-5701.

EIS No. 20080305, Final EIS, CGD, AL, Bienville Offshore Energy Terminal (BOET) Deepwater Port License Application (Docket # USCG-2006-24644), Proposes To Construct and Operate a Liquefied Natural Gas Receiving and Regasification Facility, Outer Continental Shelf of the Gulf of Mexico, South of Fort Morgan, AL, Wait Period Ends: 09/08/2008, Contact: Lt. Hannah Kim 202-372-1438.

Amended Notices

EIS No. 20080281, Draft EIS, NRC, 00,GENERIC—In-Situ Leach Uranium Milling Facilities (NUREG-1910), Construction, Operation, Aquifer Restoration and Decommissioning, Potentially Location in Portions of WY, NE, SD and NM, Comment Period Ends: 10/07/2008, Contact: James Park 301-415-6935. Revision to FR Notice Published: Extending Comment Period from 09/26/2008 to 10/07/2008.

Dated: August 5, 2008.
Robert W. Hargrove,
Director, NEPA Compliance Division, Office of Federal Activities.

[FR Doc. E8-18318 Filed 8-7-08; 8:45 am]

BILLING CODE 6560-50-P